DEPARTMENT OF ENERGY

Office of Science; Notice of Renewal of the Basic Energy Sciences Advisory Committee

Pursuant to Section 14(a)(2)(A) of the Federal Advisory Committee Act and in accordance with Title 41of the Code of Federal Regulations, Section 102-3.65, and following consultation with the Committee Management Secretariat, General Services Administration, notice is hereby given that the Basic Energy Sciences Advisory Committee has been renewed for a two-year period, beginning July 1, 2005.

The Committee will provide advice to the Office of Science, on the basic energy sciences program. The Secretary of Energy has determined that renewal of the Basic Energy Sciences Advisory Committee is essential to the conduct of the Department's business and is in the public interest in connection with the performance of duties imposed by law upon the Department of Energy. The Committee will continue to operate in accordance with the provisions of the Federal Advisory Committee Act (Pub. L. No. 92-463), the General Services Administration Final Rule on Federal Advisory Committee Management, and other directives and instructions issued in implementation of those acts.

FOR FUTHER INFORMATION CONTACT: Ms. Rachel Samuel at (202) 586-3279.

Issued in Washington, DC on July 1, 2005.
Carol Matthews,
Acting Advisory Committee Officer.

[FR Doc. 05-13860 Filed 7-13-05; 8:45 am]

BILLING CODE 6450-01-P